ENVIRONMENTAL PROTECTION AGENCY

[ER-FRL-9036-6]

Environmental Impact Statements; Notice of Availability

Responsible Agency: Office of Federal Activities, General Information (202) 564-7146 or http://www2.epa.gov/nepa.

Weekly receipt of Environmental Impact Statements

Filed 12/04/2017 Through 12/08/2017

Pursuant to 40 CFR 1506.9

Notice

Section 309(a) of the Clean Air Act requires that EPA make public its comments on EISs issued by other Federal agencies. EPA's comment letters on EISs are available at: https://cdxnodengn.epa.gov/cdx-nepa-public/action/eia/search.

EIS No. 20170238, Draft, FERC, CA, Lassen Lodge Hydroelectric Project, Comment Period Ends: 02/02/2018, Contact: Kenneth Hogan 202-502-8434.

EIS No. 20170239, Final Supplement, BOEM, LA, Gulf of Mexico OCS Lease Sale Final Supplemental Environmental Impact Statement 2018, Review Period Ends:01/15/2018, Contact: Mr. Greg Koslowski 504-736-2512.

EIS No. 20170240, Final, ARS, USFS, WY, Final Environmental Impact Statement—Use of Domestic Sheep, Goats, and Pack Goats, Review Period Ends: 02/13/2018, Contact: Casey McQuiston 307-578-5134.

Amended Notices

EIS No. 20170218, Draft, NMFS, WA, 10 Salmon and Steelhead Hatchery Programs in the Duwamish-Green River Basin, Contact: Steve Leider 360-753-4650, Revision to FR Notice Published 11/03/2017; Extending Comment Period from 12/20/2017 to 01/19/2018.

Dated: December 12, 2017.
Kelly Knight
Director, NEPA Compliance Division, Office of Federal Activities.

[FR Doc. 2017-27090 Filed 12-14-17; 8:45 am]

BILLING CODE 6560-50-P